DEPARTMENT OF COMMERCE

National Oceanic and Atmospheric Administration

RIN 0648-XA387

Endangered Species; File No. 15566

AGENCY: National Marine Fisheries Service (NMFS), National Oceanic and Atmospheric Administration (NOAA), Commerce.

ACTION: Issuance of permit.

SUMMARY: Notice is hereby given that South Carolina Department of Natural Resources, Marine Resources Division, Charleston, SC 29422-2559 has been issued a permit to take loggerhead (Caretta caretta), Kemp's ridley (Lepidochelys kempii), green (Chelonia mydas), leatherback (Dermochelys coriacea), and hawksbill (Eretmochelys imbricata) sea turtles for purposes of scientific research.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Ave., South, St. Petersburg, FL 33701; phone (727) 824-5312; fax (727) 824-5309.

FOR FURTHER INFORMATION CONTACT: Kristy Beard or Amy Hapeman, (301) 713-2289.

SUPPLEMENTARY INFORMATION: On November 3, 2010, notice was published in the Federal Register (75 FR 67682) that a request for a scientific research permit to take sea turtles had been submitted by the applicant. The requested permit has been issued under the authority of the Endangered Species Act of 1973, as amended (ESA; 16 U.S.C. 1531 et seq.) and the regulations governing the taking, importing, and exporting of endangered and threatened species (50 CFR parts 222-226).

The five-year permit authorizes the capture by trawl of up to 345 loggerhead, 29 Kemp's ridley, 9 green, 1 leatherback, and 1 hawksbill sea turtle in order to assess temporal change in catch rates, size distributions, sex and genetic ratios, and health of sea turtles. Captures would occur annually in coastal waters between Winyah Bay, SC and St. Augustine, FL. Turtles would be handled, blood sampled, measured, flipper and passive integrated transponder tagged, photographed, and released. A subsample of animals would be subject to barnacle, keratin, fecal, and tissue sampling, cloacal swabs, and attachment of satellite and/or VHF transmitters. Up to five loggerhead, one Kemp's ridley, one green, one leatherback, and one hawksbill sea turtle could be accidentally killed over the life of the permit.

Issuance of this permit, as required by the ESA, was based on a finding that such permit (1) was applied for in good faith, (2) will not operate to the disadvantage of such endangered or threatened species, and (3) is consistent with the purposes and policies set forth in section 2 of the ESA.

Dated: April 19, 2011.
P. Michael Payne,
Chief, Permits, Conservation and Education Division, Office of Protected Resources, National Marine Fisheries Service.

[FR Doc. 2011-9945 Filed 4-22-11; 8:45 am]

BILLING CODE 3510-22-P